DEPARTMENT OF LABOR

Employment and Training Administration

[TA-W-57,600]

Philips Consumer Electronics, Philips Service Organization, Service Contracts, Claims, Credit and Special Projects Departments, Knoxville, TN; Dismissal of Application for Reconsideration

Pursuant to 29 CFR 90.18(C) an application for administrative reconsideration was filed with the Director of the Division of Trade Adjustment Assistance for workers at Philips Consumer Electronics, Philips Service Organization, Service Contracts, Claims, Credit and Special Projects Departments, Knoxville, Tennessee. The application contained no new substantial information which would bear importantly on the Department's determination. Therefore, dismissal of the application was issued.

TA-W-57,600; Philips Consumer Electronics Philips Service Organization, Service Contracts, Claims, Credit, and Special Projects Departments, Knoxville, Tennessee (October 5, 2005)

Signed at Washington, DC this 6th day of October 2005.
Terrance Clark,
Acting Director, Division of Trade Adjustment Assistance.

[FR Doc. E5-5610 Filed 10-12-05; 8:45 am]

BILLING CODE 4510-30-P